ENVIRONMENTAL PROTECTION AGENCY

40 CFR Part 98

Mandatory Greenhouse Gas Reporting

CFR Correction

In Title 40 of the Code of Federal Regulations, Parts 96 to 99, revised as of July 1, 2014, on pages 696 through 698, in subpart I of part 98, tables I-5 through I-7 are corrected to read as follows:

Table I-5 To Subpart I of Part 98—Default Emission Factors (1-Uij) for Gas Utilization Rates (Uij) and By-Product Formation Rates (Bijk) for MEMS Manufacturing
Process type factors | Process gas i: CF4 | Process gas i: C2F6 | Process gas i: CHF3 | Process gas i: CH2F2 | Process gas i: C3F8 | Process gas i: c− C4F8 | Process gas i: NF3 Remote | Process gas i: NF3 | Process gas i: SF6 | Process gas i: C4F6a | Process gas i: C5F8a | Process gas i: C4F8Oa
Etch 1-Ui | 0.7 | ¹0.4 | ¹0.4 | ¹0.06 | NA | ¹0.2 | NA | 0.2 | 0.2 | 0.1 | 0.2 | NA
Etch BCF4 | NA | ¹0.4 | ¹0.07 | ¹0.08 | NA | 0.2 | NA | NA | NA | ¹0.3 | 0.2 | NA
Etch BC2F6 | NA | NA | NA | NA | NA | 0.2 | NA | NA | NA | ¹0.2 | 0.2 | NA
CVD Chamber Cleaning 1-Ui | 0.9 | 0.6 | NA | NA | 0.4 | 0.1 | 0.02 | 0.2 | NA | NA | 0.1 | 0.1
CVD Chamber Cleaning BCF4 | NA | 0.1 | NA | NA | 0.1 | 0.1 | ²0.02 | ²0.1 | NA | NA | 0.1 | 0.1
CVD Chamber Cleaning BC3F8 | NA | NA | NA | NA | NA | NA | NA | NA | NA | NA | NA | 0.4
Notes: NA = Not applicable; i.e., there are no applicable default emission factor measurements for this gas. This does not necessarily imply that a particular gas is not used in or emitted from a particular process sub-type or process type.
¹ Estimate includes multi-gas etch processes.
² Estimate reflects presence of low-k, carbide and multi-gas etch processes that may contain a C-containing fluorinated GHG additive.

Table I-6 To Subpart I of Part 98—Default Emission Factors (1-Uij) for Gas Utilization Rates (Uij) and By-Product Formation Rates (Bijk) for LCD Manufacturing
Process type factors | Process gas i: CF4 | Process gas i: C2F6 | Process gas i: CHF3 | Process gas i: CH2F2 | Process gas i: C3F8 | Process gas i: c− C4F8 | Process gas i: NF3 Remote | Process gas i: NF3 | Process gas i: SF6
Etch 1-Ui | 0.6 | NA | 0.2 | NA | NA | 0.1 | NA | NA | 0.3
Etch BCF4 | NA | NA | 0.07 | NA | NA | 0.009 | NA | NA | NA
Etch BCHF3 | NA | NA | NA | NA | NA | 0.02 | NA | NA | NA
Etch BC2F4 | NA | NA | 0.05 | NA | NA | NA | NA | NA | NA
CVD Chamber Cleaning 1-Ui | NA | NA | NA | NA | NA | NA | 0.03 | 0.3 | 0.9
Notes: NA = Not applicable; i.e., there are no applicable default emission factor measurements for this gas. This does not necessarily imply that a particular gas is not used in or emitted from a particular process sub-type or process type.

Table I-7 To Subpart I of Part 98—Default Emission Factors (1-Uij) for Gas Utilization Rates (Uij) and By-Product Formation Rates (Bijk) for PV Manufacturing
Process type factors | Process gas i: CF4 | Process gas i: C2F6 | Process gas i: CHF3 | Process gas i: CH2F2 | Process gas i: C3F8 | Process gas i: c− C4F8 | Process gas i: NF3 Remote | Process gas i: NF3 | Process gas i: SF6
Etch 1-Ui | 0.7 | 0.4 | 0.4 | NA | NA | 0.2 | NA | NA | 0.4
Etch BCF4 | NA | 0.2 | NA | NA | NA | 0.1 | NA | NA | NA
Etch BC2F6 | NA | NA | NA | NA | NA | 0.1 | NA | NA | NA
CVD Chamber Cleaning 1-Ui | NA | 0.6 | NA | NA | 0.1 | 0.1 | NA | 0.3 | 0.4
CVD Chamber Cleaning BCF4 | NA | 0.2 | NA | NA | 0.2 | 0.1 | NA | NA | NA
Notes: NA = Not applicable; i.e., there are no applicable default emission factor measurements for this gas. This does not necessarily imply that a particular gas is not used in or emitted from a particular process sub-type or process type.

[FR Doc. 2015-05549 Filed 3-11-15; 8:45 am]

BILLING CODE 1505-01-D